FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, if any, are available for immediate inspection at the Federal Reserve Bank indicated. The applications will also be available for inspection at the offices of the Board of Governors. Interested persons may express their views in writing on the standards enumerated in the BHC Act (12 U.S.C. 1842(c)).

Comments regarding each of these applications must be received at the Reserve Bank indicated or the offices of the Board of Governors, Ann E. Misback, Secretary of the Board, 20th and Constitution Avenue NW, Washington, DC 20551-0001, not later than November 7, 2019.

A. Federal Reserve Bank of Atlanta (Kathryn Haney, Assistant Vice President) 1000 Peachtree Street NE, Atlanta, Georgia 30309. Comments can also be sent electronically to Applications.Comments@atl.frb.org:

1. IFB Bancorp, Inc., Miami, Florida; to become a bank holding company by acquiring International Finance Bank, also of Miami, Florida.

B. Federal Reserve Bank of Philadelphia (William Spaniel, Senior Vice President) 100 North 6th Street, Philadelphia, Pennsylvania 19105-1521. Comments can also be sent electronically to Comments.applications@phil.frb.org:

1. OceanFirst Financial Corp., Toms River, New Jersey; to acquire Two River Bancorp and thereby indirectly acquire Two River Community Bank, both of Tinton Falls, New Jersey.

2. OceanFirst Financial Corp., Toms River, New Jersey; to acquire Country Bank Holding Company and thereby indirectly acquire Country Bank, both of New York, New York.

Board of Governors of the Federal Reserve System, October 2, 2019.
Yao-Chin Chao,
Assistant Secretary of the Board.

[FR Doc. 2019-21787 Filed 10-4-19; 8:45 am]

BILLING CODE P